POSTAL SERVICE BOARD OF GOVERNORS

Sunshine Act Meeting

Board Votes To Close July 21, 2003, Meeting

At its meeting on June 2, 2003, and by paper vote July 3-7, 2003, the Board of Governors of the United States Postal Service voted unanimously to close to public observation its meeting scheduled for July 21, 2003, in McLean, Virginia.

Items To Be Considered: 1. Strategic Planning.

2. Personnel Matters.

General Counsel Certification: The General Counsel of the United States Postal Service has certified that the meeting was properly closed under the Government in the Sunshine Act.

FOR FURTHER INFORMATION CONTACT: Requests for information about the meeting should be addressed to the Secretary of the Board, William T. Johnstone, at (202) 268-4800.

William T. Johnstone,
Secretary

[FR Doc. 03-17775 Filed 7-9-03; 3:27 pm]

BILLING CODE 7710-12-M